DEPARTMENT OF COMMERCE

Foreign-Trade Zones Board

[Order No. 1208]

Designation of New Grantee for Foreign-Trade Zone 220, Sioux Falls, SD; Resolution and Order

Pursuant to its authority under the Foreign-Trade Zones Act of June 18, 1934, as amended (19 U.S.C. 81a-81u), and the Foreign-Trade Zones Board Regulations (15 CFR part 400), the Foreign-Trade Zones Board (the Board) adopts the following Order:

The Foreign-Trade Zones (FTZ) Board (the Board) has considered the application (filed 11/6/2001) submitted by the State of South Dakota Governor's Office of Economic Development, grantee of FTZ 220, Sioux Falls, South Dakota requesting reissuance of the grant of authority for said zone to the Sioux Falls Development Foundation, Inc., a non-profit corporation, which has accepted such reissuance subject to approval by the FTZ Board. Upon review, the Board finding that the requirements of the FTZ Act and the Board's regulations are satisfied, and that the proposal is in the public interest, approves the request and recognizes the Sioux Falls Development Foundation, Inc. as the grantee of Foreign Trade Zone 220.

The approval is subject to the FTZ Act and the FTZ Board's regulations, including Section 400.28.

Signed at Washington, DC, this 18th day of January, 2002.
Faryar Shirzad,
Assistant Secretary of Commerce for Import Administration, Alternate Chairman, Foreign-Trade Zones Board.

[FR Doc. 02-4924 Filed 2-28-02; 8:45 am]

BILLING CODE 3510-DS-P